DEPARTMENT OF THE TREASURY

Community Development Financial Institutions Fund

ACTION: Notice and request for comments.

SUMMARY: The proposed information collection requirement, concerning a study by the Community Development Financial Institutions Fund (the Fund) regarding the need for, and the feasibility of, selling loans made by Community Development Financial Institutions (CDFIs) on a secondary market, will be submitted to the Office of Management and Budget (OMB) for review as required by the Paperwork Reduction Act. The Fund is soliciting public comments on the subject proposal.

DATES: Written and electronic comments on the subject proposal must be submitted to the Fund by July 8, 2002, to be assured of consideration.

ADDRESSES: Interested persons are invited to submit comments regarding the subject proposal. Comments should refer to the proposal by name and should be sent by mail to: Office of Legal Counsel, CDFI Fund, 601 Thirteenth Street, NW, Suite 200, Washington DC 20005; by e-mail to cdfihelp@cdfi.treas.gov; or by facsimile at (202) 622-8244. This is not a toll free number.

FOR FURTHER INFORMATION CONTACT: Donna Fabiani, Financial Strategies and Research Unit, CDFI Fund, 601 Thirteenth Street, NW, Suite 200, Washington DC 20005; telephone number 202/622-8575. This is not a toll free number. Copies of the proposed survey form and other available information may be obtained from Ms. Fabiani.

SUPPLEMENTARY INFORMATION: The Fund will submit the proposed information collection to OMB for review, as required by the Paperwork Reduction Act of 1995 (44 U.S.C. chapter 35, as amended). This notice is soliciting comments from members of the public and affected organizations concerning the proposed collection of information to: (1) Evaluate whether the proposed collection of information is necessary to proper performance of the functions of the Fund, including whether the information will have practical utility; (2) evaluate the accuracy of the Fund's estimate of the burden of the proposed collection of information; (3) enhance the quality, utility and clarity of the information to be collected; and (4) minimize the burden of the collection of information on those who are to respond, including through use of appropriate automated collection techniques or other forms of information technology, e.g., permitting electronic submission of responses.

This Notice also lists the following information:

Title of Proposal: Secondary Market Survey of Community Development Financial Institutions.

Description of the need for information and proposed use: The Fund, a wholly owned government corporation within the Department of the Treasury, is conducting, through a contract with Abt Associates Inc., a study of the need for, and feasibility of, developing a secondary market for loans made by CDFIs. A key component of the feasibility study is gathering data, through a survey, on the loans made by CDFIs to determine whether it would be feasible for such loans to be sold in a secondary market and the potential size of this market. It is also crucial to understand the projected capital needs of these institutions to assess whether a secondary market would be beneficial to them. The survey will address both of these issues. The survey will include questions that will enable the Fund to undertake an analysis of the risk characteristics and pricing of CDFI loans to evaluate the potential for sale in a secondary market. The survey will also pose questions about current capital available, projected growth, anticipated capital needs and sources, current and potential use of a secondary market, and characteristics of individual loans. The data gathered through the survey will be used by the Fund to assess the feasibility of developing a secondary market for loans made by CDFIs.

Members of the affected public: Staff from up to 325 CDFIs that have received awards from the Fund through the Core Component of the CDFI Program (an award program administered by the Fund) will be asked to respond to the survey.

Estimation of the total number of hours needed to prepare the information collection including number of respondents, frequency of response, and hours of response: The researchers will administer a one-time mail survey with telephone follow-up to staff from each of the CDFIs to be surveyed. Completing each survey is estimated to take 5 hours, for a total maximum burden hour estimate of 1,625 hours.

Total Estimated Annual Burden Hours: 1,625 (one time).

Status of the proposed information collection: Pending OMB approval.

Authority: The Paperwork Reduction Act of 1995, 44 U.S.C. Chapter 35, as amended.

Dated: May 2, 2002.
Tony T. Brown,
Director, Community Development Financial Institutions Fund.

[FR Doc. 02-11351 Filed 5-7-02; 8:45 am]

BILLING CODE 4810-70-P